DEPARTMENT OF HEALTH AND HUMAN SERVICES

Administration for Children and Families

[CFDA Number: 93.612]

Notice for Public Comment on Administration for Native Americans' Program Policies and Procedures Relating to Social and Economic Development Strategies—Growing Organizations

AGENCY: Administration for Native Americans (ANA), Administration for Children and Families (ACF), Department of Health and Human Services (HHS).

ACTION: Notice for public comment.

SUMMARY: Pursuant to Section 814 of the Native American Programs Act of 1974 (NAPA), as amended, ANA is required to provide members of the public an opportunity to comment on proposed changes in interpretive rules and general statements of policy and to give notice of the proposed changes no less than 30 days before such changes become effective. In accordance with notice requirements of NAPA, ANA herein describes proposed interpretive rules and general statements of policy that relate to ANA's new funding opportunity announcement (FOA) in Fiscal Year (FY) 2020, Social and Economic Development Strategies—Growing Organizations (SEDS-GO), (HHS-2020-ACF-ANA-NN-1837).

DATES: Comments are due by May 11, 2020. If ANA does not receive any significant comments within the 30-day comment period, ANA will proceed with the proposed changes in the respective published FOA. The FOA will serve as the final notice of these proposed changes.

ADDRESSES: Comments may be submitted to Jean Hovland, Commissioner, Administration for Native Americans, 330 C Street SW, Washington, DC 20201 or via email: ANAComments@acf.hhs.gov.

FOR FURTHER INFORMATION CONTACT: Carmelia Strickland, Director, Division of Program Operations, Administration for Native Americans, 330 C Street SW, Washington, DC 20201. Telephone: (877) 922-9262; Email: ANAComments@acf.hhs.gov.

SUPPLEMENTARY INFORMATION: Section 814 of NAPA, as amended, (42 U.S.C. 2992b-1) incorporates provisions of the Administrative Procedure Act that require ANA to provide notice of its proposed interpretive rules and statements of policy and to seek public comment on such proposals. This notice serves to fulfill the statutory notice and public comment requirement. ANA voluntarily includes rules of practice and procedures in this notice in an effort to be transparent. The proposed interpretive rules, statements of policy, and rules of ANA practice and procedure will appear in the FY 2020 SEDS-GO FOA.

Synopses and application forms will be available on https://www.grants.gov.

A. Interpretive rules, statements of policy, procedures, and practice. The proposals below reflect ANA's proposed changes in rules, policy, or procedure, which will take effect in the FY 2020 SEDS-GO FOA.

1. New FOA

In FY 2020, ANA will introduce a new FOA as a special initiative under the Social and Economic Development Strategies program to support growing organizations that have novice level experience with federal grants. The purpose of the SEDS-GO FOA is to provide financial assistance to tribes and Native American organizations with limited capacity, staff, and resources to compete for federal funding. The funding is to be used to enhance their internal capacity and infrastructure to better serve their members or their communities. Awards made under the FOA will have either a 12-, 24-, or 36-month project period with an award ceiling of $200,000, per budget period. Although it is not required to have a 3-year project, the funding opportunity will allow the flexibility for 1 year of planning and 2 years of project implementation. ANA is interested in funding eligible entities that have limited experience in managing federal grants due to their limited ability to prepare grant applications, administer projects, evaluate results, or have limited financial management capacity. Bonus points will be provided during the objective review process for applicants that have never received an ANA grant award. The SEDS-GO FOA will request potential applicants to submit a Letter of Intent within 30 days of its publication, but this is not mandatory. The application submission deadline will be 60 days from the date the SEDS-GO FOA is published.

Applicants will identify up to two organizational challenges that will be addressed within the following program areas of interest: Staff Development; Governance; Effective Grants Management; Strategic/Community Planning; Financial Management Systems; Use of Technology; Ability to Track and Manage Data; and Partnerships. The ANA Project Framework will not be applicable to SEDS-GO FOA. Applicants will identify up to two targeted challenges within the Program Areas of Interest; a Project Goal; Objectives that are Specific, Measurable, Achievable, Relevant, and Time-Bound (SMART); and an Indicator of change.

ANA proposes the following Evaluation criteria scores for the SEDS-GO FY 2020:

Evaluation criteria | Maximum point values
Approach, including Objectives | 70 points.
Organizational Capacity | 15 points.
Budget and Budget Justification | 15 points.
Bonus Points | 5 points.

Bonus points will only be awarded if the applicant organization has never received an ANA grant award. Bonus points will not be awarded in a range—the application will either receive 0 or 5 points.

All Administrative Policies included in ANA's other FY 2020 FOAs will be applicable to the SEDS-GO FOA.

The following statements are applicable to the ANA Commissioner's discretion as part of the ANA internal review process for the selection of applications submitted in response to the SEDS-GO FOA:

In exercising discretion in award selection, the Commissioner may choose not to fund a project if ANA has information outside the application that contradicts the justification for the need for the project. The Commissioner may choose not to fund any proposed project that is outside the scope of the listed program areas of interest. In addition, the Commissioner may choose not to fund a project from an applicant that has received more than two ANA grant awards within the last 10 years.

Statutory Authority: Section 814 of the Native American Programs Act of 1974 (NAPA), as amended.

Elizabeth Leo,
Senior Grants Policy Specialist, Office of Administration, Administration for Children and Families.

[FR Doc. 2020-07488 Filed 4-8-20; 8:45 am]

BILLING CODE 4184-34-P